DEPARTMENT OF DEFENSE

Office of the Secretary

[Transmittal No. 19-47]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 19-47 with attached Policy Justification and Sensitivity of Technology.

Dated: December 9, 2019.
Aaron T. Siegel,
Alternate OSD Federal Register Liaison Officer, Department of Defense.

BILLING CODE 5001-06-P

BILLING CODE 5001-06-C

Transmittal No. 19-47

Notice of Proposed Issuance of Letter of Offer Pursuant to Section 36(b)(1) of the Arms Export Control Act, as amended

(i) Prospective Purchaser: Government of Qatar

(ii) Total Estimated Value:

Major Defense Equipment* | $17 million
Other | $69 million
TOTAL | $86 million

(iii) Description and Quantity or Quantities of Articles or Services under Consideration for Purchase: Qatar requested a possible sale of two (2) AN/AAQ-24(V)N Large Aircraft Infrared Countermeasures (LAIRCM) systems to protect two (2) Boeing 747-800 Head-of-State aircraft. Each LAIRCM system consists of three (3) Guardian Laser Turret Assemblies (GLTA), one (1) LAIRCM System Processor Replacement (LSPR), five (5) Missile Warning Sensors (MWS), one (1) Control Indicator Unit Replacement (CIUR), one (1) Smart Card Assembly (SCA), and one (1) High Capacity Card (HCC/User Data Memory (UDM) card.

Major Defense Equipment (MDE):

Twelve (12) Guardian Laser Turret Assemblies (GLTA) (6 installed, 6 spares)

Seven (7) LAIRCM System Processor Replacements (LSPR) (2 installed 5 spares)

Twenty-three (23) Missile Warning Sensors (MWS) (10 installed, 13 spares)

Non-MDE: Also included are LAIRCM CIURs; SCAs; HCCs; UDM cards; initial spares; consumables; repair and return support; support equipment; engineering design; integration; hardware integration; flight test and certifications; selective availability anti-spoofing modules (SAASM); publications and technical documentation; training and training equipment; field service representatives; U.S. Government and contractor engineering, technical, and logistics support; and other related elements of logistics and program support.

(iv) Military Department: Air Force (QA-D-BAB)

(v) Prior Related Cases, if any: QA-D-QAA and QA-D-QAF

(vi) Sales Commission, Fee, etc., Paid, Offered, or Agreed to be Paid: None

(vii) Sensitivity of Technology Contained in the Defense Article or Defense Services Proposed to be Sold: See Attached Annex.

(viii) Date Report Delivered to Congress: September 24, 2019

* As defined in Section 47(6) of the Arms Export Control Act.

POLICY JUSTIFICATION

Qatar—Large Aircraft Infrared Countermeasures (LAIRCM) System for Head-of-State Aircraft

The Government of Qatar has requested to buy two AN/AAQ-24(V)N Large Aircraft Infrared Countermeasures (LAIRCM) systems to protect two (2) 747-800 Head-of-State aircraft. This proposed sale will include: twelve (12) Guardian Laser Turret Assemblies (GLTA) (6 installed, 6 spares); seven (7) LAIRCM System Processor Replacements (LSPR) (2 installed 5 spares); twenty-three (23) Missile Warning Sensors (MWS) (10 installed, 13 spares); Control Indicator Unit Replacements (CIURs); Smart Card Assemblies (SCAs); High Capacity Cards (HCCs); User Data Memory (UDM) cards; initial spares; consumables; repair and return support; support equipment; engineering design; integration; hardware integration; flight test and certifications; selective availability anti-spoofing modules (SAASM); publications and technical documentation; training and training equipment; field service representatives; U.S. Government and contractor engineering, technical, and logistics support; and other related elements of logistics and program support. The estimated cost is $86 million.

This proposed sale will support the foreign policy and national security of the United States by helping to improve the security of a friendly country that continues to be an important force for political and economic progress in the Middle East. Qatar is host to the U.S. Central Command forces and serves as a critical forward-deployed location in the region.

The proposed sale will improve Qatar's capability to deter regional threats. The self-protection suite will facilitate a more robust capability into areas of increased missile threats. Qatar will have no difficulty absorbing this equipment and capability into its armed forces.

The proposed sale of this equipment and support will not alter the basic military balance in the region.

The prime contractor will be Northrop Grumman, Rolling Meadows, IL. There are no known offset agreements proposed in connection with this potential sale.

Implementation of this proposed sale may require the assignment of a U.S. Government and/or contractor representatives to Qatar to provide the field service support as requested.

There will be no adverse impact on U.S. defense readiness as a result of this proposed sale.

Transmittal No. 19-47

Notice of Proposed Issuance of Letter of Offer Pursuant to Section 36(b)(1) of the Arms Export Control Act

Annex

Item No. vii

(vii) Sensitivity of Technology:

1. The AN/AAQ-24(V)N LAIRCM is a self-contained, directed energy countermeasures system designed to protect aircraft from infrared-guided surface-to-air missiles. The system features digital technology and micro-miniature solid-state electronics. The system operates in all conditions, detecting incoming missiles and jamming infrared-seeker equipped missiles with aimed bursts of laser energy. The LAIRCM system consists of multiple Missile Warning Sensors, Guardian Laser Turret Assembly (GLTA), LAIRCM System Processor Replacement (LSPR), Control Indicator Unit Replacement (CIUR), and a classified User Data Memory (UDM) card containing the laser jam codes. The UDM card is loaded into the LSPR prior to flight; when not in use, the UDM card is removed from the LSRP and put in secure storage. The Missile Warning Sensors (MWS) for AN/AAQ-24(V)N are mounted on the aircraft exterior to provide omni-directional protection. The MWS detects the rocket plume of missiles and sends appropriate data signals to the LSPR for processing. The LSPR analyzes the data from each sensor and automatically deploys the appropriate countermeasure via the GLTA. The CIUR displays the incoming threat for the pilot to take appropriate action. The LSPR also contains Built-in-Test (BIT) circuitry. LAIRCM hardware is CLASSIFIED only when a classified UDM card is inserted into the system and it is powered up. LAIRCM system software, including Operational Flight Program and jam codes, are classified SECRET. Technical data and documentation to be provided is UNCLASSIFIED.

2. If a technologically advanced adversary were to obtain knowledge of the specific hardware and software elements, the information could be used to develop countermeasures that might reduce weapon system effectiveness or be used in the development of a system with similar or advanced capabilities.

3. A determination has been made that Qatar can provide substantially the same degree of protection for the sensitive technology being released as the U.S. Government. This sale is necessary in furtherance of the U.S. foreign policy and national security objectives outlined in the Policy Justification.

4. All defense articles and services listed in this transmittal are authorized for release and export to the Government of Qatar.

[FR Doc. 2019-26980 Filed 12-13-19; 8:45 am]

BILLING CODE 5001-06-P